DEPARTMENT OF ENERGY

Federal Energy Regulatory Commission

Combined Notice of Filings #1

Take notice that the Commission received the following exempt wholesale generator filings:

Docket Numbers: EG25-282-000.

Applicants: Shelby Onsite Generation, LLC.

Description: Shelby Onsite Generation, LLC submits Notice of Self-Certification of Exempt Wholesale Generator Status.

Filed Date: 4/10/25.

Accession Number: 20250410-5165.

Comment Date: 5 p.m. ET 5/1/25.

Docket Numbers: EG25-283-000.

Applicants: TES MAS23 Energy Storage, LLC.

Description: TES MAS23 Energy Storage, LLC submits Notice of Self-Certification of Exempt Wholesale Generator Status.

Filed Date: 4/10/25.

Accession Number: 20250410-5167.

Comment Date: 5 p.m. ET 5/1/25.

Take notice that the Commission received the following electric rate filings:

Docket Numbers: ER24-2754-001.

Applicants: Western Maine Renewables, LLC.

Description: Notice of Non-Material Change in Status of Western Maine Renewables, LLC.

Filed Date: 4/9/25.

Accession Number: 20250409-5191.

Comment Date: 5 p.m. ET 4/30/25.

Docket Numbers: ER25-1383-000.

Applicants: Freeport-McMoRan Copper & Gold Energy Services, LLC.

Description: Supplement to 02/24/2025, Freeport-McMoRan Copper & Gold Energy Services, LLC's Request for Authorization to Undertake Affiliate Sales.

Filed Date: 4/8/25.

Accession Number: 20250408-5233.

Comment Date: 5 p.m. ET 4/22/25.

Docket Numbers: ER25-1446-000.

Applicants: MS Solar 7, LLC.

Description: Supplement to February 28, 2025, MS Solar 7, LLC tariff filing.

Filed Date: 4/9/25.

Accession Number: 20250409-5189.

Comment Date: 5 p.m. ET 4/21/25.

Docket Numbers: ER25-1868-000.

Applicants: Portland General Electric Company.

Description: Motion for Extension of Time, Shortened Answer Period, and Expedited Action of Powerex Corp.

Filed Date: 4/9/25.

Accession Number: 20250409-5172.

Comment Date: 5 p.m. ET 5/1/25.

Docket Numbers: ER25-1918-000.

Applicants: Hoosier Line Energy, LLC.

Description: Initial Rate Filing: Certificate of Concurrence to Shared Facilities Common Ownership Agreement to be effective 4/10/2025.

Filed Date: 4/9/25.

Accession Number: 20250409-5173.

Comment Date: 5 p.m. ET 4/30/25.

Docket Numbers: ER25-1919-000.

Applicants: PJM Interconnection, L.L.C.

Description: 205(d) Rate Filing: Amendment to Service Agreement Nos. 6544 & 6545; Queue No. AB1-087 to be effective 6/10/2025.

Filed Date: 4/10/25.

Accession Number: 20250410-5012.

Comment Date: 5 p.m. ET 5/1/25.

Docket Numbers: ER25-1920-000.

Applicants: PJM Interconnection, L.L.C.

Description: 205(d) Rate Filing: Amendment to Service Agreement Nos. 6538 & 6539; Queue No. AB1-088 to be effective 6/10/2025.

Filed Date: 4/10/25.

Accession Number: 20250410-5025.

Comment Date: 5 p.m. ET 5/1/25.

Docket Numbers: ER25-1922-000.

Applicants: Midcontinent Independent System Operator, Inc., Ameren Illinois Company.

Description: 205(d) Rate Filing: Ameren Illinois Company submits tariff filing per 35.13(a)(2)(iii: 2025-04-10_SA 4469 Ameren Illinois-Breese-IMEA WCA to be effective 6/10/2025.

Filed Date: 4/10/25.

Accession Number: 20250410-5041.

Comment Date: 5 p.m. ET 5/1/25.

Docket Numbers: ER25-1923-000.

Applicants: Duke Energy Progress, LLC.

Description: 205(d) Rate Filing: DEP-CUBE Emergency Energy Agreement and Interconnection Agreement to be effective 6/10/2025.

Filed Date: 4/10/25.

Accession Number: 20250410-5049.

Comment Date: 5 p.m. ET 5/1/25.

Docket Numbers: ER25-1924-000.

Applicants: American Electric Power Service Corporation.

Description: 205(d) Rate Filing: AEPSC submits three Facilities Agreements re: SA No. 1336 to be effective 4/1/2025.

Filed Date: 4/10/25.

Accession Number: 20250410-5053.

Comment Date: 5 p.m. ET 5/1/25.

Docket Numbers: ER25-1925-000.

Applicants: PacifiCorp.

Description: 205(d) Rate Filing: Montana Intertie Project Trans Agreement Exhibit D Concurrence to be effective 3/1/2024.

Filed Date: 4/10/25.

Accession Number: 20250410-5077.

Comment Date: 5 p.m. ET 5/1/25.

Docket Numbers: ER25-1926-000.

Applicants: Shelby Onsite Generation, LLC.

Description: 205(d) Rate Filing: Application for MBR Authority with Expedited Treatment to be effective 6/1/2025.

Filed Date: 4/10/25.

Accession Number: 20250410-5141.

Comment Date: 5 p.m. ET 5/1/25.

Docket Numbers: ER25-1927-000.

Applicants: TES MAS23 Energy Storage, LLC.

Description: Initial Rate Filing: Application for Market-Based Rate Authorization and Request for Waivers to be effective 4/11/2025.

Filed Date: 4/10/25.

Accession Number: 20250410-5153.

Comment Date: 5 p.m. ET 5/1/25.

Docket Numbers: ER25-1928-000.

Applicants: Southwestern Public Service Company.

Description: Tariff Amendment: 2025.04.10—LP&L Cancellation to be effective 4/11/2025.

Filed Date: 4/10/25.

Accession Number: 20250410-5162.

Comment Date: 5 p.m. ET 5/1/25.

Docket Numbers: ER25-1929-000.

Applicants: Lockhart Transmission Holdings, LLC.

Description: 205(d) Rate Filing: Facilities Use Agreements to be effective 6/10/2025.

Filed Date: 4/10/25.

Accession Number: 20250410-5178.

Comment Date: 5 p.m. ET 5/1/25.

Take notice that the Commission received the following electric reliability filings:

Docket Numbers: RD25-7-000.

Applicants: North American Electric Reliability Corporation.

Description: Petition of the North American Electric Reliability Corporation for Approval of Proposed Reliability Standard EOP-012-3.

Filed Date: 4/10/25.

Accession Number: 20250410-5177.

Comment Date: 5 p.m. ET 5/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 10, 2025.
Carlos D. Clay,
Deputy Secretary.

[FR Doc. 2025-06955 Filed 4-22-25; 8:45 am]

BILLING CODE 6717-01-P